DEPARTMENT OF AGRICULTURE

Animal and Plant Health Inspection Service

9 CFR Part 93

[Docket No. 00-010-2]

Horses From Iceland; Quarantine Requirements

AGENCY: Animal and Plant Health Inspection Service, USDA.

ACTION: Final rule.

SUMMARY: We are amending the regulations regarding the importation of horses to exempt horses imported from Iceland from testing for dourine, glanders, equine piroplasmosis, and equine infectious anemia during the quarantine period. Given that Iceland has never had a reported case of dourine, glanders, equine piroplasmosis, or equine infectious anemia, we have determined that horses imported from Iceland pose a negligible risk of introducing those diseases into the United States. This action relieves certain testing requirements for horses imported from Iceland while continuing to protect against the introduction of communicable diseases of horses into the United States.

EFFECTIVE DATE: November 6, 2001.

FOR FURTHER INFORMATION CONTACT: Dr. Glen I. Garris, Supervisory Staff Officer, Regionalization and Evaluation Services Staff, National Center for Import and Export, VS, APHIS, 4700 River Road Unit 38, Riverdale, MD 20737-1231; (301) 734-4356.

SUPPLEMENTARY INFORMATION:

Background

On April 18, 2001, we published in the Federal Register (66 FR 19898-19899, Docket No. 00-010-1), a proposal to amend the animal importation regulations in 9 CFR part 93 to exempt horses imported from Iceland from testing for dourine, glanders, equine piroplasmosis and equine infectious anemia (EIA) during the quarantine period. Iceland has never had a reported case of dourine, glanders, equine piroplasmosis, or EIA. The Government of Iceland requested that the U.S. Department of Agriculture exempt horses imported from Iceland from testing for dourine, glanders, equine prioplasmosis, and EIA during the quarantine period.

We solicited comments concerning our proposal for 60 days ending June 18, 2001. We did not receive any comments. Therefore, for the reasons given in the proposed rule, we are adopting the proposed rule as a final rule, without change.

Effective Date

This is a substantive rule that relieves restrictions and, pursuant to the provision of 5 U.S.C. 553, may be made effective less than 30 days after publication in the Federal Register. This rule exempts horses imported from Iceland from the requirement for testing for dourine, glanders, equine piroplasmosis, and EIA during the quarantine period based on our determination that horses from Iceland present a negligible risk of introducing those diseases into the United States. Therefore, the Administrator of the Animal and Plant Health Inspection Service (APHIS) has determined that this rule should be effective upon publication in the Federal Register.

Executive Order 12866 and Regulatory Flexibility Act

This rule has been reviewed under Executive Order 12866. The rule has been determined to be not significant for the purposes of Executive Order 12866 and, therefore, has not been reviewed by the Office of Management and Budget.

This rule exempts horses imported into the United States from Iceland from the requirement for testing for dourine, glanders, equine piroplasmosis, and EIA during the quarantine period. As explained previously in this document, we have determined that there is a negligible risk of horses imported from Iceland introducing dourine, glanders, equine piroplasmosis, and EIA into the United States.

As a result of this rule, U.S. importers of horses from Iceland will no longer be required to have those horses tested for dourine, glanders, equine piroplasmosis, and EIA during the quarantine period. The test for EIA costs $5; the tests for equine piroplasmosis cost $9 for each strain for a total of $18; the test for dourine costs $9; and the test for glanders costs $9. Therefore, importers will save a total of $41 on each horse imported from Iceland. Horses imported from Iceland will still be required to undergo a 3-day quarantine after arrival in the United States and undergo any other tests and procedures that may be required by APHIS to determine their freedom from communicable diseases.

According to the 1997 Census of Agriculture, the United States had a total population of at least 2,427,277 horses in that year. In 1999, the United States exported 78,702 horses valued at $293 million, and imported 30,398 horses valued at $326 million. However, only 166 (less than 1 percent) of those horses were imported from Iceland. The total number of horses imported from Iceland is small due in part to the prices of these horses, which averaged $4,367. All of the horses imported from Iceland in 1999 were nonpurebred horses. As a comparison, nonpurebred horses imported from Canada into the United States had an average value of $1,450 in 1999.

The overall economic impact of this rule will be minimal. Importers will save on the importation of horses, but the overall savings will be small. Had this rule been in place in 1999 and applied to the 166 horses imported from Iceland in that year, importers would have saved a total of $6,806.

APHIS does not expect that the number of horses imported from Iceland into the United States will increase significantly as a result of this rule. The cost reduction associated with this rule is less than 1 percent of the average price of horses imported from Iceland into the United States in 1999. Therefore, this rule is expected to have only minimal economic effects on U.S. importers of horses from Iceland, regardless of their size.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. In § 93.308, paragraph (a)(3) is revised to read as follows:

§ 93.308 Quarantine requirements.

(a) * * *

(3) To qualify for release from quarantine, all horses, except horses from Iceland, must test negative to official tests for dourine, glanders, equine piroplasmosis, and equine infectious anemia.¹⁴ However, horses imported from Australia and New Zealand are exempt from testing for dourine and glanders. In addition, all horses must undergo any other tests, inspections, disinfections, and precautionary treatments that may be required by the Administrator to determine their freedom from communicable diseases.

¹⁴ Because the official tests for dourine and glanders are performed only at the National Veterinary Services Laboratories in Ames, IA, the protocols for those tests have not been published and are, therefore, not available; however, copies of “Protocol for the Complement-Fixation Test for Equine Piroplasmosis” and “Protocol for the Immunno-Diffusion (Coggins) Test For Equine Infectious Anemia” may be obtained from the Animal and Plant Health Inspection Service, Veterinary Services, National Center for Import-Export, 4700 River Road Unit 38, Riverdale, MD 20737-1231.

* * * * *

Done in Washington, DC, this 31st day of October 2001.
W. Ron DeHaven,
Acting Administrator, Animal and Plant Health Inspection Service.

[FR Doc. 01-27816 Filed 11-5-01; 8:45 am]

BILLING CODE 3410-34-U